DEPARTMENT OF DEFENSE

Department of the Army

Piñon Canyon Maneuver Site Training and Operations Final Environmental Impact Statement

AGENCY: Department of the Army, DoD.

ACTION: Notice of availability.

SUMMARY: The Department of the Army announces the availability of the Final Environmental Impact Statement (EIS) for proposed training and operations at Piñon Canyon Maneuver Site (PCMS), CO. PCMS is the maneuver site for Fort Carson and is located near Trinidad, CO, approximately 150 miles southeast of Fort Carson. The Final EIS evaluates the environmental impacts associated with the proposed action, which is to conduct realistic, coordinated, large-scale training that integrates the ground and air resources of Fort Carson's mechanized, infantry, support, and combat aviation units.

In addition to the No Action Alternative, the Final EIS considers two alternatives: Alternative 1A, which would establish new brigade-level training intensity measures, update brigade training and equipment requirements, and enable the Stryker family of vehicles to train at PCMS; and Alternative 1B, which would include Alternative 1A and add enhanced readiness training, to include new activities and infrastructure at PCMS. The proposed action does not include, nor would it require, land expansion of PCMS.

DATES: No decision will be made until 30 days after publication of the Notice of Availability in the Federal Register.

ADDRESSES: Written comments may be sent by email to usarmy.carson.imcom-central.list.dpw-ed-nepa@mail.mil or by postal service to the Fort Carson NEPA Program Manager, Directorate of Public Works, Environmental Division, 1626 Evans Street, Building 1219, Fort Carson, CO 80913-4362, or call (719) 526-4666.

FOR FURTHER INFORMATION CONTACT: The Fort Carson Public Affairs Office at (719) 526-7525, Monday through Friday, 7:30 a.m. to 4:00 p.m. MST; or by email to: usarmy.carson.hqda-ocpa.list.pao-officer@mail.mil.

SUPPLEMENTARY INFORMATION: The Final EIS has been prepared to meet the requirements of the National Environmental Policy Act of 1969 (NEPA) to evaluate the environmental and socioeconomic impacts, as well as cumulative impacts, of implementing proposed actions at PCMS. The Final EIS takes into consideration public, agency, and tribal nation comments received on the Draft EIS.

Soldiers stationed at Fort Carson need to train together, in an integrated manner, during large-scale collective training events. Integrated brigade combat team (BCT) level training is necessary at PCMS; without such training, Fort Carson Soldiers would be forced to train in their tasks in isolation, and not in the integrated manner in which they would fight. The Final EIS affords Fort Carson the opportunity to review its environmental program and the current state of the environment on PCMS.

Alternative 1A would establish a benchmark for brigade-level training intensity using the historic limitation of 4.7 months to allow for land rest and recovery. This alternative would enable Fort Carson's Stryker BCT to conduct training at PCMS using the Stryker family of vehicles.

Alternative 1B includes Alternative 1A and new training activities and training infrastructure changes at PCMS. Training activities in the Final EIS include electronic jamming systems, laser target sighting, tactical demolition, unmanned and unarmed aerial reconnaissance systems, and light unmanned ground vehicle training. In terms of training infrastructure, PCMS would establish two new drop-zones, and restricted airspace directly over PCMS for use during periods when training activity poses a hazard to non-participating aircraft. The restricted airspace would be activated as required by training scenarios. Among the changes made since publication of the Draft EIS are the removal of aviation rocket (2.75 inch) and flare training, removal of two of the original eight demolition sites from the proposed action, and reduction in the maximum charge per blast at one of the six remaining sites. The decision-maker may select all of the elements in Alternative 1B or only some (or none in the No Action alternative). Alternative 1B is the Army's preferred alternative.

Implementation of the proposed action could have significant impacts to soils, vegetation, wildlife, and water resources. The Final EIS identifies potential mitigation measures to reduce adverse impacts.

Soldier training would be entirely within the existing boundaries of PCMS, except for limited air and convoy operations. The proposed action does not include, nor would it require, any land expansion of PCMS. No additional land will be sought or acquired as a result of this action.

The U.S. Army plans to issue a Record of Decision no earlier than 30 days after the date of the U.S. Environmental Protection Agency's Notice of Availability. The Record of Decision will include adoption of mitigation measures. The Final EIS is available at http://www.carson.army.mil/DPW/nepa.html.

Brenda S. Bowen,
Army Federal Register Liaison Officer.

[FR Doc. 2015-05736 Filed 3-12-15; 8:45 am]

BILLING CODE 3710-08-P